DEPARTMENT OF TRANSPORTATION

Federal Aviation Administration

Notice of Intent of Waiver With Respect to Land; Willoughby Lost Nation Municipal Airport, Willoughby, Ohio

AGENCY: Federal Aviation Administration (FAA), DOT.

ACTION: Notice.

SUMMARY: The FAA is considering a proposal to change 10.667 acres of airport land from aeronautical use to non-aeronautical use and to authorize the sale of airport property located at Willoughby Lost Nation Municipal Airport, Willoughby, Ohio. The aforementioned land is not needed for aeronautical use.

The proposed non-aeronautical use of the property is for a compatible 120,000 square foot manufacturing facility and office space development. The property has been appraised and the airport will receive Fair Market Value for the land to be sold.

DATES: Comments must be received on or before May 24, 2018.

ADDRESSES: Documents are available for review by appointment at the FAA Detroit Airports District Office, Evonne M. McBurrows, Program Manager, 11677 South Wayne Road, Suite 107, Romulus, Michigan 48174 Telephone: (734) 229-2945/Fax: (734) 229-2950 and Lake County Ohio Port and Economic Development Authority, One Victoria Place, Painesville, Ohio 44077 and (440) 357-2290.

Written comments on the Sponsor's request must be delivered or mailed to: Evonne M. McBurrows, Program Manager, Federal Aviation Administration, Detroit Airports District Office, 11677 South Wayne Road, Suite 107, Romulus, Michigan 48174, Telephone Number: (734) 229-2945/FAX Number: (734) 229-2950.

FOR FURTHER INFORMATION CONTACT: Evonne M. McBurrows, Program Manager, Federal Aviation Administration, Detroit Airports District Office, 11677 South Wayne Road, Suite 107, Romulus, Michigan 48174. Telephone Number: (734) 229-2945/FAX Number: (734) 229-2950.

SUPPLEMENTARY INFORMATION: In accordance with section 47107(h) of Title 49, United States Code, this notice is required to be published in the Federal Register 30 days before modifying the land-use assurance that requires the property to be used for an aeronautical purpose.

The 10.667 acre parcel is located east of Lost Nation Road and North of Jet Drive adjacent to the westerly airport property boundary line. The property is currently undeveloped land and was acquired by the City of Willoughby under Federal grant 8-1-3-39-0090-0185. The proposed non-aeronautical use of the land will be for a 120,000 square foot manufacturing facility and office space. The property is not needed for aeronautical purposes. The release of the property and use of the property will be in conformity with local and state laws. The property has a proposed developer identified and it has been appraised. The airport will receive Fair Market Value for the land to be sold.

The disposition of proceeds from the sale of the airport property will be in accordance with FAA's Policy and Procedures Concerning the Use of Airport Revenue, published in the Federal Register on February 16, 1999 (64 FR 7696).

This notice announces that the FAA is considering the release of the subject airport property at the Willoughby Lost Nation Municipal Airport, City of Willoughby, Ohio from federal land covenants, subject to a reservation for continuing right of flight as well as restrictions on the released property as required in FAA Order 5190.6B section 22.16. Approval does not constitute a commitment by the FAA to financially assist in the disposal of the subject airport property nor a determination of eligibility for grant-in-aid funding from the FAA.

Legal Description 10.667 Acres

Situated in the City of Willoughby, County of Lake, and State of Ohio and known as being part of Original Lot No. 6, Douglas Tract, and is further bounded and described as follows:

Beginning at an iron pin found at the southeasterly corner of land conveyed to Halabar Enterprises, LLC by deed recorded in Document No. 970032610 of Lake County Records in the northerly sideline of Jet Center Place, where it is 70.00 feet wide, at a point located South 88°15′30″ East 14.98 feet from an angle point in said sideline, said point being further located 4 + 19.98, 35.00 feet left as appears by plat recorded in Vol.16, Page 34 of Lake County Plat Records,

Thence North 1°44′30″ East, along the easterly line of said land of Halabar Enterprises, 753.23 feet to an iron pin found at the northeasterly corner of said land;

Thence South 88°43′30″ West, along the northerly line of said land, 60.56 feet to an iron pin found at the southeasterly corner of land conveyed to Authur P. Armington by deed recorded in Vol. 704, Page 163 of Lake County Official Records;

Thence, North 1°44′30″ East along the easterly line of Armington, 240.00 feet to an iron pin found at the southerly line of land conveyed to Frank R. Farroni by deed recorded in Volume 759, Page 634 of Lake County Records.

Thence North 88°43′30″ East along the southerly said land of Farroni, 3.00 feet to an iron pin found at the southeasterly corner of said land,

Thence North 01°44′30″ East, along the easterly line of said land of Farroni 28.00 feet to an iron pin found at the southwesterly corner of land conveyed to Lost Nation Parkway, I Ltd by Document No. 980042081 of Lake County Records.

Thence South 88°15′30″ East along the southerly line of said land of Lost Nation Parkway 1, Ltd., 499.92 feet to an iron pin set;

Thence South 1°44′30″ West, 903.33 feet to an iron pin found at the northwesterly corner of land conveyed to the City of Willoughby by deed recorded in Vol. 680 Page 252 of Lake County Official Records;

Thence South 0°14′52″ West, along the westerly line of said land of the City, 82.96 feet to an iron pin found at the curved northerly, sideline of Jet Center Place;

Thence westerly along said sideline on an arc deflecting to the left, said arc having a radius of 68.50 feet and a chord of 59.34 feet which bears South 78°13′00″ West, a distance of 61.38 feet to a point of reverse curve;

Thence westerly continuing along said sideline on an arc deflecting to the right said arc having a radius of 81.50 feet and a chord of 54.47 feet which bears South 72°3′11″ West a distance of 55.54 feet to a point.

North 88°15′30″ West along said sideline of Jet Center Place 335.53 feet to the place of beginning and containing 10.667 acres of land according to a survey made in August 1999 by Richard J. Bislki, registered surveyor No. 5244 of CT Consultants, Inc., Registered Engineers and Surveyors, be the same more or less, but subject to all legal highways.

The bearings stated herein are based upon the recorded bearings as shown on the dedication plat of Jet Center Place, Vol. 16 Page 34 and are for the sole purpose of indicating relative angular values between lines.

Issued in Romulus, Michigan on April 16, 2018.
John L. Mayfield, Jr.,
Manager, Detroit Airports District Office, FAA, Great Lakes Region.

[FR Doc. 2018-08555 Filed 4-23-18; 8:45 am]

BILLING CODE 4910-13-P